NATIONAL SCIENCE FOUNDATION

Advisory Committee for Computer and Information Science and Engineering; Notice of Meeting

In accordance with the Federal Advisory Committee Act (Pub. L. 92-463, as amended), the National Science Foundation (NSF) announces the following meeting:

Name and Committee Code: Advisory Committee for Computer and Information Science and Engineering (#1115) (Hybrid).

Date and Time: December 6, 2023; 9:30 a.m.-5:00 p.m. (Eastern); December 7, 2023; 9:30 a.m.-12:30 p.m. (Eastern).

Place: NSF, 2415 Eisenhower Avenue, Room E3450, Alexandria, VA 22314 (Hybrid).

To register for in-person attendance or for virtual meeting attendees to receive the Zoom link, please send your request to the following email: cmessam@nsf.gov.

Type of Meeting: Open.

Contact Persons: Chantoye Messam, National Science Foundation, 2415 Eisenhower Avenue, Alexandria, VA 22314; Telephone:703-292-8900; email: cmessam@nsf.gov.

Purpose of Meeting: To provide advice, recommendations, and counsel on major goals and policies pertaining to Computer and Information Science and Engineering programs and activities.

Agenda

• NSF and CISE update

• Report out from the Committee of Visitors for Computing and Communication Foundations, Computer and Network Systems, and Information and Intelligent Systems Divisions

• Computing and Sustainability

• Broadening Participation in Computing

Dated: November 6, 2023.
Crystal Robinson,
Committee Management Officer.

[FR Doc. 2023-24778 Filed 11-8-23; 8:45 am]

BILLING CODE 7555-01-P